DEPARTMENT OF EDUCATION

[CFDA No.: 84.245]

Office of Vocational and Adult Education; Tribally Controlled Postsecondary Vocational and Technical Institutions Program

ACTION: Withdrawal of Notice Published on March 23, 2001 and Publication of New Notice Inviting Applications for New Awards for Fiscal Year (FY) 2001.

Notice to Applicants: On March 23, 2001, the Secretary published in the Federal Register (66 FR 16195) a notice inviting applications for new awards for FY 2001 in the Tribally Controlled Postsecondary Vocational and Technical Institutions Program. This notice withdraws and replaces the notice published on March 23, 2001 at 66 FR 16195, because the wrong version was erroneously published on March 23rd. This notice is a complete application package. Together with the statute authorizing the program and the Education Department General Administrative Regulations (EDGAR), the notice contains all of the information, application forms, and instructions needed to apply for a grant under this competition.

SUMMARY: The Secretary invites applications for new awards for FY 2001 under the Tribally Controlled Postsecondary Vocational and Technical Institutions Program (TCPVTIP or the program) authority of section 117 of the Carl D. Perkins Vocational and Technical Education Act of 1998 (the Act or the 1998 amendments) (20 U.S.C. 2327) and announces deadline dates for the transmittal of applications for funding under the program.

Purpose of Program: Section 117 of the Act authorizes the Secretary to make grants to tribally controlled postsecondary vocational and technical institutions to provide basic support for the education and training of Indian students in vocational and technical education programs.

Eligible Applicants: A tribally controlled postsecondary vocational and technical institution is eligible to receive a grant under this program if it is an institution of higher education (as defined section 101 of the Higher Education Act of 1965 and in the “DEFINITIONS” section of this notice) that—

(a) Is formally controlled, or has been formally sanctioned or chartered, by the governing body of an Indian tribe or tribes;

(b) Offers a technical degree or certificate granting program;

(c) Is governed by a board of directors or trustees, a majority of whom are Indians;

(d) Demonstrates adherence to stated goals, a philosophy, or a plan of operation, that fosters individual Indian economic and self-sufficiency opportunity, including programs that are appropriate to stated tribal goals of developing individual entrepreneurships and self-sustaining economic infrastructures on reservations;

(e) Has been in operation for at least 3 years;

(f) Holds accreditation with or is a candidate for accreditation by a nationally recognized accrediting authority for postsecondary vocational and technical education; and

(g) Enrolls the full-time equivalent of not less than 100 students, of whom a majority are Indians.

Deadline for Transmittal of Applications: May 29, 2001.

Available Funds: $5,600,000 for the first 12 months of the 36-month project period. Funding for the second and third 12-month periods of the project is subject to the availability of funds and to a grantee meeting the requirements of 34 CFR 75.253.

Estimated Range of Awards: $500,000 to $1,250,000 for the first 12 months.

Estimated Average Size of Awards: $700,000.

Estimated Number of Awards: 8.

Note: The Department is not bound by any estimates in this notice.

Project Period: 3 years.

Applicable Statute and Regulations: (a) The relevant provisions of the Carl D. Perkins Vocational and Technical Education Act of 1998, 20 U.S.C. 2301 et seq., in particular sections 117(a)-(f) and (h) of the Act, 20 U.S.C. 2327(a)-(f) and (h).

(b) The Education Department General Administrative Regulations (EDGAR) as follows:

(1) 34 CFR part 74 (Administration of Grants and Agreements to Institutions of Higher Education, Hospitals, and Other Nonprofit Organizations).

(2) 34 CFR part 75 (Direct Grant Programs).

(3) 34 CFR part 77 (Definitions that Apply to Department Regulations).

(4) 34 CFR part 81 (General Education Provisions Act—Enforcement).

(5) 34 CFR part 82 (New Restrictions on Lobbying).

(6) 34 CFR part 85 (Governmentwide Debarment and Suspension (Nonprocurement) and Governmentwide Requirements for Drug-Free Workplace (Grants)).

(7) 34 CFR part 86 (Drug and Alcohol Abuse Prevention).

(8) 34 CFR part 97 (Protection of Human Subjects).

(9) 34 CFR part 98 (Student Rights In Research, Experimental Programs and Testing).

(10) 34 CFR part 99 (Family Educational Rights and Privacy).

SUPPLEMENTARY INFORMATION:

General

This notice implements section 117 of the Carl D. Perkins Vocational and Technical Education Act of 1998 (Pub. L. 105-332), enacted October 31, 1998. Section 117 authorizes the Secretary to award grants to tribally controlled postsecondary vocational and technical institutions to operate vocational and technical education programs.

The 1998 amendments to the Perkins Act changed many of the requirements applicable to the TCPVTIP. Former grant recipients under the Tribally Controlled Postsecondary Vocational Institutions Program will find that the changes brought about by the 1998 amendments are likely to have a noticeable impact on how tribal postsecondary institutions must now operate projects.

The following summary is intended to help potential applicants to become familiar with important changes to the TCPVTIP and with the way in which these changes impact on the administration of the TCPVTIP.

Changes to the Program

(a) Eligibility. Under the definition of “tribally controlled postsecondary vocational and technical institution” in section 3(28) of the Act, institutions of higher education meeting the eligibility requirements in section 3(28)(A)-(G) of the Act are eligible to apply for and receive awards under the TCPVTIP. Prior to the 1998 amendments, tribally controlled community colleges generally were not considered eligible under this program. See 57 F.R. 36773-74 (August 14, 1992) (Section 410.5, definition of “Tribally controlled postsecondary vocational institution”.) Under this notice, funding opportunities are provided for additional tribal institutions to strengthen their vocational and technical education programs.

(b) Allowable expenses. (1) Unlike part H of the Carl D. Perkins Vocational and Applied Technology Education Act of 1990 (20 U.S.C. 2301 et seq.), section 117 of the Act does not provide for grants for the operation, maintenance, expansion, or improvement of tribally controlled postsecondary vocational institutions. Instead, under section 117 of the Act, grants are to be used to fund projects that provide basic support for vocational and technical education programs for Indian students. (20 U.S.C. 2327(a), (b), and (e)). Costs that are not specifically authorized by section 117 of the Act or clearly associated with vocational and technical programs for Indians, such as the administrative expenses of the entire institution, will not be considered by the Secretary as allowable direct costs under this program.

(2) While section 117(e)(1)(B) of the Act continues to authorize the use of grant funds for capital expenditures, including operations and maintenance, and minor improvements and repair, and physical plant maintenance costs, under the Act these costs are allowable only when incurred for the conduct of programs funded under section 117 of the Act. (20 U.S.C. 2327(e)(1)(B)).

(3) Section 117(e)(1)(A) of the Act specifically authorizes student stipends, whereas the previous statute did not. Institutions may provide a stipend to a student to enable the student to participate in a vocational and technical education program under section 117 of the Act. (20 U.S.C. 2327(e)(1)(A)).

(c) Supplanting. In accordance with section 311(a) of the Act, funds awarded under this program must supplement, and cannot supplant, non-Federal funds used to carry out vocational and technical education activities and tech-prep activities. (20 U.S.C. 2391). Under the Department's administrative regulations, because of this new statutory prohibition against supplanting in the TCPVTIP, grantees will also be required to apply their negotiated restricted indirect cost rates to this program. (See 34 CFR 75.563). There was no supplanting provision applicable to this program prior to the 1998 amendments.

Definitions

Indian means a person who is a member of an Indian tribe.

Indian student count means a number equal to the total number of Indian students enrolled in a tribally controlled postsecondary vocational and technical institution determined by adding the figures for paragraphs (a) through (d) of this definition:

(a) Full-time students. The number of Indian students registered at the institution on October 1 of each year, who carried a full-time academic workload, as determined by the institution. This figure does not include summer school registrants, continuing education registrants, or part-time students.

(b) Part-time students. The full time equivalent of the number of Indian students registered at the institution on October 1 of each year who carried a part-time academic workload, as determined by the institution. This figure does not include summer school or continuing education registrants.

(c) Summer students. The full-time equivalent of the total number of credit or clock hours earned toward a certificate or degree at the institution by Indian students during the summer term. Credit or clock hours toward a certificate or degree earned in classes during a summer term are counted only if the tribally controlled postsecondary vocational and technical institution has established criteria for the admission of summer term students on the basis of the students' ability to benefit from the education or training offered. The institution shall be presumed to have established those criteria if the admission procedures for those studies include counseling or testing that measures the students' aptitude to successfully complete the courses in which the students have enrolled.

(d) Continuing education students. The full-time equivalent of the total number of credit or clock hours earned by Indian students enrolled in the institution's continuing education program. (20 U.S.C. 2327(h)(2)).

Under section 117(h)(2)(C) of the Act, the Indian student count does not include either credit earned by students for purposes of obtaining a high school degree or its equivalent, or the number of students registered in programs that provide a high school degree or its equivalent. (20 U.S.C. 2327(h)(2)(C)).

If grantees use inconsistent methods for converting credit and clock hours to a full-time equivalent, in order to arrive at a consistent calculation of the full-time equivalent for students in summer and continuing education programs using the semester, trimester, or quarter system, the Secretary will divide the number of credit hours by 12 and the number of clock hours by 24.

Indian tribe means any Indian tribe, band, nation, or other organized group or community, including any Alaskan Native or regional or village corporation as defined in or established pursuant to the Alaskan Native Claims Settlement Act (43 U.S.C. 1601 et seq.), which is recognized as eligible for the special programs and services provided by the United States to Indians because of their status as Indians. (20 U.S.C. 2327(h)(1); 25 U.S.C. 1801(a)(2)).

Institution of higher education, as defined in section 3(28) of the Act and in section 101 of the Higher Education Act of 1965, means—

(a) An educational institution in any State that_

(1) Admits as regular students only persons having a certificate of graduation from a school providing secondary education, or the recognized equivalent of such a certificate;

(2) Provides an educational program for which the institution awards a bachelor's degree or provides not less than a 2-year program that is acceptable for full credit toward such a degree;

(3) Is a public or other nonprofit institution; and

(4) Is accredited by a nationally recognized accrediting agency or association, or if not so accredited, is an institution that has been granted preaccreditation status by such an agency or association that has been recognized by the Secretary of the Interior for the granting of preaccreditation status, and the Secretary of the Interior has determined that there is satisfactory assurance that the institution will meet the accreditation standards of such an agency or association within a reasonable time.

(b) The term also includes—

(1) Any school that provides not less than a 1-year program of training to prepare students for gainful employment in a recognized occupation and that meets the provisions of paragraphs (a)(1), (3), and (4) of this definition.

(2) A public or nonprofit private educational institution in any State that, in lieu of the requirement in paragraph (a)(1) of this definition, admits as regular students persons who are beyond the age of compulsory school attendance in the State in which the institution is located.

(Authority: 20 U.S.C. 1001 and 2302(28))

Stipend means a subsistence allowance for a student that is necessary for the student to participate in a project funded under this program.

Tribally Controlled Community College or University means an institution of higher education which is formally controlled, or has been formally sanctioned, or chartered, by the governing body of an Indian tribe or tribes, except that no more than one such institution shall be recognized with respect to any such tribe.

(Authority: 20 U.S.C. 2302(27) and 25 U.S.C. 1801(a)(4))

Tribally Controlled Postsecondary Vocational and Technical Institution means an institution of higher education (as defined in the “Definitions” section of this notice) that—

(a) Is formally controlled, or has been formally sanctioned or chartered, by the governing body of an Indian tribe or tribes;

(b) Offers a technical degree or certificate granting program;

(c) Is governed by a board of directors or trustees, a majority of whom is Indians;

(d) Demonstrates adherence to stated goals, a philosophy, or a plan of operation that fosters individual Indian economic and self-sufficiency opportunity, including programs that are appropriate to stated tribal goals of developing individual entrepreneurships and self-sustaining economic infrastructures on reservations;

(e) Has been in operation for at least 3 years;

(f) Holds accreditation with or is a candidate for accreditation by a nationally recognized accrediting authority for postsecondary vocational and technical education; and

(g) Enrolls the full-time equivalent of not less than 100 students, of whom a majority is Indians.

(Authority: 20 U.S.C. 2302(28))

Vocational and technical education means organized educational activities that—

(1) Offer a sequence of courses that provides an individual with the academic and technical knowledge and skills the individual needs to prepare for further education and careers (other than careers requiring a baccalaureate, master's, or doctoral degree) in current or emerging employment sectors; and

(2) Include competency-based applied learning that contributes to an individual's academic knowledge, higher-order reasoning and problem-solving skills, work attitudes, general employability skills, technical skills, and occupational-specific skills.

For the purposes of this definition, the term “sequence of courses” means a series of courses in which vocational and academic education are integrated, and which directly relates to, and leads to, both academic and occupational competencies.

(Authority: 20 U.S.C. 2301(2) and 2302 (29))

Note: Applicants are encouraged to review all applicable definitions in section 3 of the Act.

Eligible Programs, Services, and Activities

Under the TCPVTIP, projects may use grant funds to pay for the following—

(a) Authorized expenses. The Secretary awards grants to carry out projects that provide vocational and technical education programs to Indian students. Grants may be used to pay for expenses associated with—

(1) The maintenance and operation of the vocational and technical education program funded under section 117 of the Act, including development costs, costs of basic and special instruction (including special programs for individuals with disabilities and academic instruction), materials, student costs, administrative expenses, boarding costs, transportation, student services, daycare and family support programs for students and their families (including contributions to the costs of education for dependents) and student stipends;

(2) Capital expenditures, including operations and maintenance, and minor improvements and repair, and physical plant maintenance costs, for the conduct of vocational and technical education programs funded under section 117 of the Act; and

(3) Cost associated with the repair, upkeep, replacement, and upgrading of instructional equipment used in vocational and technical education programs funded under the grant. (20 U.S.C. 2327(e)(1)).

(b) Student stipends. (1) A tribally controlled postsecondary vocational and technical institution may provide a stipend to a student to enable the student to participate in a vocational and technical education program under section 117 of the Act.

(2) In order to receive a stipend, the student must—

(i) Be enrolled in a vocational and technical education project funded under this program as at least a half-time student;

(ii) Be in regular attendance in a TCPVTIP project and meet the tribally controlled postsecondary institution's attendance requirement;

(iii) Maintain satisfactory progress in his or her course of study according to the tribally controlled postsecondary institution's published standards of satisfactory progress; and

(iv) Have an acute economic need that—

(A) Prevents participation in a project funded under this program; and

(B) Cannot be met through a work-study program.

(3) Acute economic need means an income, of the family of a dependent student or of an independent student, that is at or below the national poverty level according to the latest available data from the Department of Commerce or the Department of Health and Human Services Poverty Guidelines.

(4) The amount of a stipend may be the greater of either the minimum hourly wage prescribed by State or local law, or the minimum hourly wage established under the Fair Labor Standards Act.

(5) An institution may only award a stipend if the stipend combined with other resources the student receives does not exceed the student's financial need. The student's financial need is the difference between the student's cost of attendance and the financial aid or other resources that will be used to defray the costs of the student participating in the TCPVTIP.

(6) To calculate the amount of a student's stipend, a grantee would multiply the number of hours a student actually attends vocational and technical education instruction by the amount of the minimum hourly wage that is prescribed by State or local law, or by the minimum hourly wage that is established under the Fair Labor Standards Act.

Example: If a grantee uses the Fair Labor Standards Act minimum hourly wage of $6.15 and a student attends classes for 18 hours a week, the student's stipend would be $110.70 for the week during which the student attends classes ($6.15 × 18 = 110.70).

Attendance Costs Under This Program May Not Be Considered as Income

(a) The portion of any student financial assistance received under the Act that is made available for attendance costs described in paragraph (b) of this section of the notice may not be considered as income or resources in determining eligibility for assistance under any other program funded in whole or in part with Federal funds.

(b) For purposes of this section, attendance costs are—

(1) Tuition and fees normally assessed a student carrying the same academic workload as determined by the institution, including costs for rental or purchases of any equipment, materials, or supplies required of all students in the same course of study; and

(2) An allowance for books, supplies, transportation, dependent care, and miscellaneous personal expenses for a student attending an institution on at least a half-time basis, as determined by the institution.

(Authority: 20 U.S.C. 2415)

Eligibility for Assistance Under This Program May Not Preclude Assistance Under Other Programs

Except as specifically provided for in the Act, eligibility for assistance under this program shall not preclude any tribally controlled postsecondary vocational and technical institution from receiving Federal financial assistance under any program authorized under the Higher Education Act of 1965, or any other applicable program for the benefit of institutions of higher education or vocational and technical education.

(Authority: 20 U.S.C. 2327(f)(1))

Content of The Application

To receive a grant under the TCPVTIP, an applicant must include the following information in the application:

(a) Documentation showing that the institution is eligible according to each of the requirements in the “Eligible Applicants” section of this notice, including meeting the definition of the term “institution of higher education” (e.g., proof of the accreditation of the institution, resolution from an Indian tribe).

(b) For each of the past three academic years—

(i) A list of the vocational and technical education certificate and degree programs that were offered by the institution (e.g., Nursing, Automotive Technology); and

(ii) For the vocational and technical education program(s), the total number of students that enrolled, dropped out, graduated, and were placed in additional training or education, military service, or employment after graduation.

(c) The institution's Indian student counts, as defined in this notice, for academic years 1998-1999 and 1999-2000.

(d) The courses of study to be supported under the TCPVTIP project.

(e) The number of students to be served in the proposed project in each course of study.

(f) Goals and objectives for the proposed project, including how the goals and objectives further the tribal economic develop plan.

(g) Long-range and short-range needs to be addressed by the project, including the institution's plans for the placement of students (e.g., placement into additional training or education, military service, or employment).

(h) A detailed budget identifying the costs to be paid with a grant under this program and resources available from other Federal, State, and local sources, including any student financial aid, that will be used to achieve the goals and objectives of the proposed project.

(i) Strategies and resources for objectively evaluating the institution's progress towards, and success in, achieving the goals and objectives of the project. (20 U.S.C. 2302(28); 2327(a), (c), (d), (e), (g)(1), and (h)(2))

Competitive Priorities

Under the authority of 34 CFR 75.105(c)(2)(ii), the Secretary gives preference to applications that meet the following competitive priorities. The Secretary awards up to five points to applicants that meet the competitive priority in a particularly effective way. These priority points are in addition to any points an applicant earns under the selection criteria for the program.

Competitive Priority 1—High interest/high demand areas (up to 5 points)

Projects that propose to introduce, expand, or refine “high interest/high demand” vocational and technical education programs in the applicant institution. The need for “high interest/high demand” programs should be based on the institution reviewing such evidence as changing trends in an occupation, documented labor market needs, or evidence of emerging jobs in the career or occupational area (e.g., occupational forecast data, survey data from interested persons and business owners in the local area).

Competitive Priority 2—Professional development (up to 5 points)

Projects that propose on-going professional development activities (e.g., internships, teacher externships, business/education collboratives, use of technology to facilitate training activities) intended to enhance the teaching or occupational skills and competencies of the applicant's staff who serve vocational and technical education students. The training should be designed to help the staff to better meet the vocational and technical educational goals and objectives of the proposed project. To the extent possible, professional development activities should be related to training students for emerging occupations relevant to the needs of the community.

Competitive Priority 3—Student recruitment, retention, and course completion. (up to 5 points)

Projects that propose, as a part of their TCPVTIP projects' vocational and technical education program, to use effective techniques for increasing student recruitment, enrollment, retention, and completion. The effectiveness of the techniques must be supported by empirical data.

Selection Criteria

The Secretary uses the following criteria to evaluate an application. The maximum score for each criterion is indicated in parentheses.

(a) Need for project. (15 points) (1) The Secretary considers the need for the proposed project.

(2) In determining the need for the proposed project, the Secretary considers the following factors:

(i) The magnitude of the need for the specific services to be provided or specific activities to be carried out by the proposed project, as evidenced by data such as local labor market demand, occupational trends, advice from an advisory board for a course of study, surveys, recommendations from accrediting agencies, or tribal economic development plans.

(ii) The extent to which specific gaps or weaknesses in services, infrastructure, or opportunities have been identified and will be addressed by the proposed project, including the nature and magnitude of those gaps or weaknesses.

(b) Significance. (10 points) (1) The Secretary considers the significance of the proposed project.

(2) In determining the significance of the proposed project, the Secretary considers the following factors:

(i) The likelihood that the proposed project will result in system change or improvement in the applicant's educational program.

(ii) The extent to which the proposed project is likely to build local capacity to provide, improve, or expand services that address the vocational and technical education needs of the target population.

(iii) The extent to which the proposed project involves the development or demonstration of promising new strategies that build on, or are alternatives to, existing strategies for providing vocational and technical education to Native Americans.

(iv) The extent to which the results of the proposed project are to be disseminated in ways that will enable vocational and technical education practitioners to use the information or strategies developed by the proposed project.

(c) Quality of the project design. (25 points) (1) The Secretary considers the quality of the design of the proposed project.

(2) In determining the quality of the design of the proposed project, the Secretary considers the following factors:

(i) The extent to which goals, objectives, and outcomes are clearly specified and measurable (e.g., student vocational and technical education activities; expected enrollments, completions, and student placements in jobs, military specialties, and continuing education/training opportunities in each vocational training area; the number of teachers, counselors, and administrators to be trained; identification of requirements for each course of study; description of performance outcomes; and description of the planned dissemination activities).

(ii) The extent to which the design of the proposed project is appropriate to, and will successfully address, the needs of the target population or other identified needs.

(iii) The extent to which the proposed activities constitute a coherent, sustained program of training in the field and the courses of study are accredited.

(iv) The extent to which the proposed project will establish linkages with other appropriate agencies and organizations providing services to the target population.

(d) Quality of project services. (25 points) (1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age or disability.

(3) In addition, the Secretary considers the following factors:

(i) The extent to which the services to be provided by the proposed project are appropriate to the needs of the intended recipients or beneficiaries of those services.

(ii) The extent to which the services to be provided by the proposed project reflect up-to-date knowledge from research and effective practice.

(iii) The extent to which training or professional development services to be provided by the proposed project for the staff of its vocational and technical education program are of sufficient quality, intensity, and duration to lead to improvements in practices among the applicant's staff.

(iv) The likelihood that the services to be provided by the proposed project will lead to improvements in the achievement of students as measured against rigorous program-defined academic standards.

(v) The likelihood that services to be provided by the proposed project will lead to improvements in the skills necessary to gain employment or build capacity for independent living.

(e) Quality of project personnel. (15 points) (1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director.

(ii) The qualifications, including relevant training and experience, of key project personnel, especially the extent to which the proposed project will use instructors who are qualified to teach in the fields in which they will provide instruction.

(iii) The qualifications, including relevant training and experience, of project consultants or subcontractors.

(f) Adequacy of resources. (5 points) (1) The Secretary considers the adequacy of resources for the proposed project.

(2) In determining the adequacy of resources for the proposed project, the Secretary considers the following factors:

(i) The adequacy of support, including facilities, equipment, supplies and other resources, from the applicant institution.

(ii) The relevance and demonstrated commitment (e.g., articulation agreements, memoranda of understanding, letters of support, commitments to employ project participants) of the applicant, tribal entities to be served by the project, and local employers.

(iii) The extent to which the costs are reasonable in relation to the objectives, design, services, and potential significance of the proposed project.

(iv) The extent to which the costs are reasonable in relation to the number of persons to be served and to the anticipated results and benefits.

(v) The potential for continued support of the key project activities after Federal funding ends, including, as appropriate, the demonstrated commitment of appropriate entities to provide such support.

(g) Quality of the management plan. (10 points) (1) The Secretary considers the quality of the management plan for the proposed project.

(2) In determining the quality of the management plan for the proposed project, the Secretary considers the following factors:

(i) The adequacy of the management plan to achieve the objectives of the proposed project on time and within budget, including clearly defined responsibilities for carrying out each activity under the project, timelines, and the milestones and performance standards for accomplishing project tasks.

(ii) The extent to which the time commitments of the project director and other key project personnel are appropriate and adequate to meet the objectives of the proposed project.

(iii) The adequacy of procedures for ensuring feedback and continuous improvement in the operation of the proposed project.

(iv) The adequacy of mechanisms for ensuring high-quality outcomes and services from the proposed project.

(h) Quality of project evaluation. (20 points)

(1) The Secretary considers the quality of the evaluation to be conducted by an independent evaluator of the proposed project.

(2) In determining the quality of the evaluation, the Secretary considers the following factors:

(i) The extent to which the methods of evaluation proposed by the grantee are thorough, feasible, and appropriate to the goals, objectives, and outcomes of the proposed project.

(ii) The extent to which the methods of evaluation include the use of objective performance measures that are clearly related to the intended outcomes of the project and the Government Performance and Results Act (GPRA) objective and performance indicator discussed elsewhere in this notice, and will produce quantitative and qualitative data to the extent possible.

(iii) The extent to which the methods of evaluation will provide performance feedback and permit periodic assessment of progress toward achieving intended outcomes.

(iv) The extent to which the evaluation will provide guidance about effective strategies suitable for replication or testing in other settings.

(Approved by the Office of Management and Budget under Control No. 1830-0542)

Program Requirements

To ensure the high quality of TCPVTIP projects and the achievement of the goals and purposes of section 117(a)-(f) and (h) of the Act, the Secretary establishes the following program requirements:

(a) Evaluation. (1) Each grantee shall budget for and conduct an ongoing evaluation of its effectiveness. The evaluation must be conducted by an independent evaluator.

(2) The evaluation must—

(i) Be appropriate for the project and be both formative and summative in nature;

(ii) Include performance measures that are clearly related to the intended outcomes of the project and the Government Performance and Results Act (GPRA) objective and performance indicator for the TCPVTIP, which is discussed elsewhere in this notice; and

(iii) Measure the effectiveness of the project, including a comparison between the intended and observed results, and a demonstration of a clear link between the observed results and the specific treatment given to project participants.

(3) A proposed project evaluation design must be submitted to the Department for review and approval prior to the end of the first six months of the project period.

(4) As required in paragraph (b)(2) of the “Program Requirements” section of this notice, the interim and final results of this evaluation must be submitted to the Secretary along with the annual performance report. (34 CFR 75.590)

(b) Reporting. Each grantee shall submit to the Secretary the following reports—

(1) An annual performance report, unless the Secretary requires more frequent reporting, summarizing significant project accomplishments and, if applicable, barriers impeding progress and steps taken to alleviate those barriers. A performance report must include, for the period covered by the report—

(i) A comparison of actual accomplishments in relation to the objectives established for the period and a description of any problems, delays, or adverse conditions that materially impair the ability of the project to accomplish its purposes, the reasons for such problems, delays or adverse conditions, and an explanation of any action or actions taken or contemplated to resolve the difficulties. Note: Grantees must request prior approval for a change in the scope or the objectives of the project or program (even if there is no associated budget revision requiring prior written approval). (34 CFR 74.25(c));

(ii) A description of any favorable developments that will permit the project to accomplish its purposes sooner, at less cost, or more effectively than projected;

(iii) The institution's Indian student counts, as defined in this notice; and

(iv) A report covering—

(A) The extent to which the project achieved its goals with respect to enrollment, completion, and placement (into additional training or education, military service, or employment) of participants for the most recently completed training cycle(s), by gender and by courses of study for which instruction was provided;

(B) The number and kind of academic, vocational and technical, and work credentials and competencies acquired and demonstrated by individuals participating in the project, especially the number of students earning certificates and degrees. Grantees should also report students' participation in programs providing training at the associate degree level that is articulated with an advanced degree option; and

(C) The number of referrals the project made to social services and related services to aid participants to benefit from the project, to prepare them for employment, or to assist them in obtaining employment.

(2) An annual evaluation report that is submitted along with the annual performance report.

(3) An annual accurate and detailed accounting of the institution's operating and maintenance expenses and such other information concerning costs as the Secretary may reasonably require. (20 U.S.C. 2327(e)(2)).

(Approved by the Office of Management and Budget under Control Number 1830-0542)

Determination of Number and Funding Level of Grants

(a) The number of grants made and the amount of each grant is determined under the provisions of 34 CFR 75.230-75.234 and section 117(e) of the Act. The formula in section 117(c) of the Act does not apply to the first year of funding under this competition.

(b) For fiscal years subsequent to the first year of funding under this competition—

(i) The Secretary will determine the number of grants and the amount of each grant based on the availability of appropriations, 34 CFR 75.253, and section 117(e) of the Act; and

(ii) If appropriations for each such subsequent fiscal year are not sufficient to fund the total amount that approved grantees are eligible to receive, the Secretary will allocate grant amounts in accordance with section 117(c) of the Act.

(Authority: 20 U.S.C. 2327(c))

Government Performance and Results Act

The Government Performance and Results Act of 1993 (GPRA) places management expectations and requirements on Federal departments and agencies by creating a framework for more effective planning, budgeting, program evaluation, and fiscal accountability for Federal programs. The intent of GPRA is to improve public confidence by holding departments and agencies accountable for achieving program results. Under GPRA, departments and agencies must clearly describe the goals and objectives of their programs, identify resources and actions needed to accomplish these goals and objectives, develop a means of measuring progress made, and regularly report on their achievement. One important source of program information on successes and “lessons learned” is the project evaluation conducted under individual grants. In accordance with GPRA requirements, TCPVTIP grantees are asked to include the following objective and performance indicator when evaluating the success of their projects:

The extent to which vocational students served in tribally controlled postsecondary vocational and technical institutions make successful transitions to work or continuing education. The Department's performance indicator for this objective is that by fall 2002, 60% of vocational students will receive an AA degree or certificate.

(Approved by the Office of Management and Budget under Control Number 1830-0542)

Waiver of Rulemaking

While it is generally the practice of the Secretary to offer interested parties the opportunity to comment on a regulation before it is implemented, section 437(d)(1) of the General Education Provisions Act exempts from formal rulemaking requirements, regulations governing the first grant competition under a new or substantially revised program authority (20 U.S.C. 1232(d)(1)). The program authority for what was formerly known as the Tribally Controlled Postsecondary Vocational Institutions Program was substantially revised on October 31, 1998 by section 117 of Pub. L. 105-332. In order to make awards on a timely basis, the Secretary has decided to publish this notice in final form under the authority of section 437(d)(1).

Instructions for Transmittal of Applications

Applicants are required to submit one original signed application and two copies of the application. All forms and assurances must have ink signatures. Please mark applications as “original” or “copy”. To aid with the review of applications, the Department encourages applicants to submit four additional paper copies of the application. The Department will not penalize applicants who do not provide additional copies.

(a) If an applicant wants to apply for a grant under this competition, the applicant must either—

(1) Mail the original and two copies of the application on or before the deadline date to: U.S. Department of Education, Application Control Center, Attention: (CFDA #84.245), Washington, DC 20202-4725, or

(2) Hand deliver the original and two copies of the application by 4:30 p.m. (Washington, DC time) on or before the deadline date to: U.S. Department of Education, Application Control Center, Attention: (CFDA #84.245), Room #3633, Regional Office Building #3, 7th and D Streets, SW., Washington, DC

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 10 of the Application for Federal Assistance (ED Form 424) the CFDA number—and suffix letter, if any—of the competition under which the application is being submitted.

Application Instructions and Forms

All forms and instructions are included in Appendix A to this notice. Questions and answers pertaining to this program are included, as Appendix B, to assist potential applicants.

To apply for an award under this program competition, your application must be organized in the following order, include the following five parts, and contain the information in the “Content of the Application” section of this notice. The parts and additional materials are as follows:

(1) Application for Federal Education Assistance (ED Form 424 (Rev. 11-12-99)) and instructions.

(2) Budget Information—Non-Construction Programs (ED Form No. 524) and instructions.

(3) Budget Narrative.

(4) Program Narrative.

(5) Additional Assurances and Certifications:

a. Assurances—Non-Construction Programs (Standard Form 424B).

b. Certification regarding Lobbying, Debarment, Suspension, and Other Responsibility Matters; and Drug-Free Workplace Requirements (ED 80-0013) and instructions.

c. Certification regarding Debarment, Suspension, Ineligibility and Voluntary Exclusion: Lower Tier Covered Transactions (ED Form 80-0014, 9/90) and instructions.

Note: ED Form 80-0014 is intended for the use of grantees and should not be transmitted to the Department.

d. Disclosure of Lobbying Activities (Standard Form LLL), if applicable, and instructions.

e. Notice to All Applicants.

No grant or cooperative agreement may be awarded unless a completed application form has been received.

FOR FURTHER INFORMATION CONTACT: Paul Geib, Special Programs Branch, Division of National Programs, Office of Vocational and Adult Education, U.S. Department of Education, 400 Maryland Avenue, SW. (Room 4528, Mary E. Switzer Building), Washington, DC 20202-7242. Telephone (202) 205-9962. Internet address: paul_geib@ed.gov

Individuals who use a telecommunications device for the deaf (TDD) may call the Federal Information Relay Service (FIRS) at 1-888-877-8339.

Individuals with disabilities may obtain this notice in an alternate format (e.g., Braille, large print, audiotape, or computer diskette) on request to the contact person listed at the beginning of this paragraph. Please note, however, that the Department is not able to reproduce in an alternate format the standard forms included in the notice.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader which is available free at either of the preceding sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 2327(a)-(f) and (h).

Dated: March 23, 2001.
Dennis L. Berry,
Acting Deputy Assistant Secretary, Office of Vocational and Adult Education.

Estimated Public Reporting Burden

According to the Paperwork Reduction Act of 1995, no persons are required to respond to a collection of information unless it displays a valid OMB control number. The valid OMB control number for this information collection is 1830-0542. Expiration date: September 30, 2003. The time required to complete this information collection is estimated to average 208 hours per response, including the time to review instructions, search existing data resources, gather the data needed, and complete and review the information collection.

If you have any comments concerning the accuracy of the time estimates or suggestions for improving this form, please write to: U.S. Department of Education, Washington, D.C. 20202-4651.

If you have comments or concerns regarding the status of your individual submission of this information collection, write directly to: Paul Geib, Division of National Programs, Office of Vocational and Adult Education, U.S. Department of Education, 400 Maryland Avenue, SW, Room 4512, Mary E. Switzer Building, Washington, DC 20202-7242.

BILLING CODE 4000-01-P

BILLING CODE 4000-01-C

Part II—Budget Information

Instructions for Part II—Budget Information

Sections A and B—Budget Summary by Categories

1. Personnel: Show salaries to be paid to personnel for each budget year.

2. Fringe Benefits: Indicate the rate and amount of fringe benefits for each budget year.

3. Travel: Indicate the amount requested both local and out of State travel of Program Staff for each budget year. Include funds for the 1st and 2nd year for two people to attend the Program Director's Workshop.

4. Equipment: Indicate the cost of non-expendable personal property that has a cost of $5,000 or more per unit for each budget year.

5. Supplies: Include the cost of consumable supplies and materials to be used during the project period for each budget year.

6. Contractual: Show the amount to be used for: (1) procurement contracts (except those which belong on other lines such as supplies and equipment); and (2) subcontracts for each budget year.

7. Construction: Not applicable.

8. Other: Indicate all direct costs not clearly covered by lines 1 through 6 above, including consultants and capital expenditures for each budget year.

9. Total Direct Cost: Show the total for Lines 1 through 8 for each budget year.

10. Indirect Costs: Indicate the rate and amount of indirect costs for each budget year.

11. Training/Stipend Cost: Indicate cost per student and number of hours of instruction. The amount of a stipend may be the greater of the minimum hourly wage prescribed by State and local law, or the minimum hourly wage set under the Fair Labor Standards Act.

12. Total Costs: Show total for lines 9 through 11 for each budget year.

Instructions for Part III—Budget Narrative

The budget narrative should explain, justify, and, if needed, clarify your budget summary. For each line item (personnel, fringe benefits, travel, etc.) in your budget, explain why it is there and how you computed the costs.

Please limit this section to no more than five pages. Be sure that each page of your application is numbered consecutively.

Instructions for Part IV—Program Narrative

The program narrative will comprise the largest portion of your application. This part is where you spell out the who, what, when, why, and how, of your proposed project.

Although you will not have a form to fill out for your narrative, there is a format. This format is based on the selection criteria. Because your application will be reviewed and rated by a review panel on the basis of the selection criteria, your narrative should follow the order and format of the criteria.

Before preparing your application, you should carefully read the legislation and EDGAR rules governing the program; eligibility requirements; “Content of Application” section of this notice; “Eligible Programs, Services and Activities” section of this notice; priorities; selection criteria; and program requirements for this competition.

Your program narrative should be clear, concise, and to the point. Begin the narrative with a one page abstract or summary of your project. Then describe the project in detail, addressing each selection criterion in order. Be sure to number consecutively ALL pages in your application.

The Secretary strongly suggests that you limit the program narrative to no more than 30 doubled-spaced, typed pages (on one side only), although the Secretary will consider your application if it is longer. Be sure to number consecutively ALL pages in your application.

You may include supporting documentation as appendices to the program narrative. Be sure that this material is concise and pertinent to this program competition.

You are advised that—

(a) The Secretary considers only information contained in the application in ranking applications for funding consideration.

(b) The technical review panel evaluates each application solely on the basis of the eligible programs, services, and activities; selection criteria; and competitive priorities contained in this notice.

(c) Letters of support included as appendices to an application, that are of direct relevance to or contain commitments that pertain to the established selection criteria, such as commitment of resources, will be reviewed by the panel. Letters of support sent separately from the formal application package are not considered in the review by the technical review panels. (34 CFR 75.217)

Appendix B

Potential applicants frequently direct questions to officials of the Department regarding application notices and programmatic and administrative regulations governing various direct grant programs. To assist potential applicants, the Department has assembled the following most commonly asked questions followed by the Department's answers.

Q. Can we get an extension of the deadline?

A. No. A closing date may be changed only under extraordinary circumstances. Any change must be announced in the Federal Register and must apply to all applications. Waivers for individual applications cannot be granted regardless of the circumstances.

Q. How many copies of the application should I submit and must they be bound?

A. Applicants are required to submit one original and two copies of the grant application. To aid with the review of applications, the Department encourages applicants to submit four additional copies of the grant application. The Department will not penalize applicants who do not provide additional copies. The binding of applications is optional.

Q. We just missed the deadline for the XXX competition. May we submit under another competition?

A. Yes, however, the likelihood of success is not good. A properly prepared application must meet the specifications of the competition to which it is submitted.

Q. I'm not sure which competition is most appropriate for my project. What should I do?

A. We are happy to discuss any such questions with you and provide clarification on the unique elements of the various competitions.

Q. Will you help us prepare our application?

A. We are happy to provide general program information. Clearly, it would not be appropriate for staff to participate in the actual writing of an application, but we can respond to specific questions about application requirements, evaluation criteria, and the priorities. Applicants should understand, however, that prior contact with the Department is not required, nor will it in any way influence the success of an application.

Q. When will I find out if I'm going to be funded?

A. You can expect to receive notification within 3 to 4 months depending on the number of the applications received and the number of Department competitions with similar closing dates.

Q. Once my application has been reviewed by the review panel, can you tell me the outcome?

A. No. Every year we are called by a number of applicants who have a legitimate reason for needing to know the outcome of the panel review prior to official notification. Some applicants need to make job decisions, some need to notify a local school district, etc. Regardless of the reason, because final funding decisions have not been made at that point, we cannot share information about the results of the panel review with anyone.

Q. Will my application be returned if I am not funded?

A. No. We no longer return unsuccessful applications. Thus, applicants should retain at least one copy of the application.

Q. Can I obtain copies of reviewers' comments?

A. Upon written request, reviewers' comments will be mailed to unsuccessful applicants.

Q. If my application receives high scores from the reviewers, does that mean that I will receive funding?

A. Not necessarily. It is often the case that the number of applications scored highly by the reviewers exceeds the dollars available for funding projects under a particular competition. The order of selection, which is based on the scores of all the applications reviewed and other relevant factors, determines the applications that can be funded.

Q. What happens during pre-award clarification discussions?

A. During pre-award clarification discussions, technical and budget issues may be raised. These are issues that have been identified during the panel and staff reviews that require clarification. Sometimes issues are stated as “conditions.” These are issues that have been identified as so critical that the award cannot be made unless those conditions are met. Questions may also be raised about the proposed budget. Generally, these issues are raised because an application contains inadequate justification or explanation of a particular budget item, or because the budget item seems unimportant to the successful completion of the project. If you are asked to make changes that you feel could seriously affect the project's success, you may provide reasons for not making the changes or provide alternative suggestions. Similarly, if proposed budget reductions will, in your opinion, seriously affect the project activities, you may explain why and provide additional justification for the proposed expenses. An award cannot be made until all issues under discussion have been resolved.

Q. Where can copies of the Federal Register, Education Department General Administrative Regulations (EDGAR), and Federal statutes be obtained?

A. Copies of these materials can usually be found at your local library. If not, they can be obtained from the Government Printing Office by writing to Superintendent of Documents, U.S. Government Printing Office, Washington, DC 20402. Telephone: (202) 708-8228. When requesting copies of regulations or statutes, it is helpful to use the specific name of the public law, number of a statute, or part number of a regulation. The material referenced in this notice should be referred to as follows:

(1) The Carl D. Perkins Vocational and Technical Education Act of 1998, Public Law 105-332, 20 U.S.C. 2301.

(2) Education Department General Administrative Regulations, 34 CFR parts 74, 75, 77, 81, 82, 85, 86, 97, 98, and 99.

Copies of these materials may also be found on the World Wide Web at http://www.access.gpo.gov/nara.

[FR Doc. 01-7691 Filed 3-27-01; 8:45 am]

BILLING CODE 4000-01-P